DEPARTMENT OF THE INTERIOR

Geological Survey

Public Review of Draft Coastal and Marine Ecological Classification Standard

AGENCY: Department of the Interior, U.S. Geological Survey.

ACTION: Notice; request for comments on draft Coastal and Marine Ecological Classification Standard.

SUMMARY: The Federal Geographic Data Committee (FGDC) is conducting a public review of the draft Coastal and Marine Ecological Classification Standard (CMECS). CMECS provides a means of classifying ecological and habitat units using a common terminology. It provides a uniform protocol for identifying, characterizing and naming ecological units in support of monitoring, protection, and restoration of unique biotic assemblages, protected species, critical habitat, and important ecosystem components. The FGDC Coastal and Marine Spatial Data Subcommittee, chaired by the National Oceanic and Atmospheric Administration (NOAA), developed this draft standard. The FGDC Coordination Group, comprised of representatives of Federal agencies, approved releasing this draft standard for public review at its July 20, 2010 meeting. The FGDC invites all stakeholders in coastal and marine ecology and management to comment on this standard to ensure that the standard meets their needs.

The draft Coastal and Marine Ecological Classification Standard may be downloaded at http://www.csc.noaa.gov/benthic/cmecs/CMECS_doc.pdf. Comments shall be submitted online at http://www.surveymonkey.com/s/22G2S67.

Comments that concern specific issues/changes/additions may result in revisions to the draft Coastal and Marine Ecological Classification Standard. Reviewers may obtain information about how comments were addressed upon request. After formal endorsement of the standard by the FGDC, the standard and a summary analysis of the changes will be made available to the public on the FGDC Web site.

DATES: Comments on the draft Coastal and Marine Ecological Classification Standard must be submitted no later than Monday, December 13, 2010.

FOR FURTHER INFORMATION: Ms. Julie Binder Maitra, U.S. Geological Survey, Federal Geographic Data Committee, jmaitra@fgdc.gov, 703-648-4627.

SUPPLEMENTARY INFORMATION: The FGDC coordinates the development of the National Spatial Data Infrastructure (NSDI), which encompasses the policies, standards, and procedures for organizations to cooperatively produce and share geospatial data. Federal agencies that make up the FGDC develop the NSDI in cooperation with organizations from State, local and tribal governments, the academic community, and the private sector. The authority for the FGDC is OMB Circular No. A-16 Revised on Coordination of Geographic Information and Related Spatial Data Activities (Revised August 19, 2002). More information on the FGDC and the NSDI is available at http://www.fgdc.gov. Standards are a foundational component of the NSDI.

The Coastal and Marine Ecological Classification Standard (CMECS) is a framework for organizing scientific information about the marine and coastal environments of the United States. It was developed to provide a common language that facilitates standardization of information in support of conservation and management efforts and is applicable locally, regionally and nationally. The standard builds on and integrates with existing classification standards. The CMECS domain extends from the coastal tidal splash zone to the deep ocean, including all substrate and water column features of the oceans as well as the deep waters of the Great Lakes.

CMECS describes the defining features of individual habitats via five component classifications. The surface geology component describes the geological composition of surface and near-surface substrates including biogenic structures. The benthic biotic component is a hierarchical classification of the biological composition of coastal and marine benthos. The sub-benthic component classifies characteristics of the sediments and soils below the surface providing detailed information on the composition of the sediment column. The geoform component describes the major geomorphic and structural characteristics of the coasts, islands and the seafloor. The water column component defines and organizes the structure, characteristics and processes of the water column and associated biota. A comprehensive set of modifiers allows the inclusion of additional information on environmental, structural, physical, chemical and biotic features in addition to required elements of the classification. Each component can be used and mapped independently or combined as needed to address specific questions or applications. The proposed standard was developed to be technology- and scale-neutral; users may choose the operational scale and level of detail suited for their purpose. CMECS is a dynamic content standard that will allow additional types and refinement of the classification with improvements in technology and information.

Dated: August 13, 2010.
Ivan DeLoatch,
FGDC Executive Director.

[FR Doc. 2010-20851 Filed 8-20-10; 8:45 am]

BILLING CODE 4311-MM-P